SOCIAL SECURITY ADMINISTRATION

20 CFR Parts 404 and 416

[Regulation Nos. 4 and 16]

RIN 0960-AG21

New Medical Criteria for Evaluating Language and Speech Disorders

AGENCY: Social Security Administration.

ACTION: Advance notice of proposed rulemaking.

SUMMARY: We are considering whether to propose new rules for evaluating language and speech disorders. The new rules would apply to adults and children who apply for, or receive, disability benefits under title II and Supplemental Security Income (SSI) payments based on disability under title XVI of the Social Security Act (the Act). Specifically, we are considering whether to add a new body system in the Listing of Impairments in appendix 1 to subpart P of part 404 of our regulations (the listings) for these disorders. We invite you to send us comments about whether we should establish these new rules, as well as suggestions about what the proposed rules should include.

We will consider your comments and suggestions, as well as information about advances in medical knowledge, treatment, and methods of evaluating language and speech disorders, along with our program experience. If we decide to propose new listings for language and speech disorders, we will publish them as proposed rules for public comment in a Notice of Proposed Rulemaking (NPRM).

As part of our long-term planning for the disability programs, we are also interested in your ideas for how we may improve our programs for people with disabilities, including people who have disabilities based on language and speech disorders, and especially those who would like to work.

DATES: To be sure your comments are considered, we must receive them by June 13, 2005.

ADDRESSES: You may give us your comments by: Using our Internet site facility (i.e., Social Security Online) at http://policy.ssa.gov/pnpublic.nsf/LawsRegs or the Federal eRulemaking Portal at http://www.regulations.gov; e-mail to regulations@ssa.gov; telefax to (410) 966-2830; or letter to the Commissioner of Social Security, P.O. Box 17703, Baltimore, Maryland 21235-7703. You may also deliver them to the Office of Regulations, Social Security Administration, 107 Altmeyer Building, 6401 Security Boulevard, Baltimore, Maryland 21235-6401, between 8 a.m. and 4:30 p.m. on regular business days. Comments are posted on our Internet site at http://policy.ssa.gov/pnpublic.nsf/LawsRegs, or you may inspect them on regular business days by making arrangements with the contact person shown in this preamble.

Electronic Version: The electronic file of this document is available on the date of publication in the Federal Register at http://www.gpoaccess.gov/fr/index.html. It is also available on the Internet site for SSA (i.e., Social Security Online) at: http://policy.ssa.gov/pnpublic.nsf/LawsRegs.

FOR FURTHER INFORMATION CONTACT: Robert J. Augustine, Social Insurance Specialist, Office of Regulations, Social Security Administration 107 Altmeyer Building, 6401 Security Boulevard, Baltimore, Maryland 21235-6401, (410) 965-0020 or TTY (410) 966-5609. For information on eligibility or filing for benefits, call our national toll-free number 1-800-772-1213 or TTY 1-800-325-0778, or visit our Internet Web site, Social Security Online, at http://www.socialsecurity.gov.

SUPPLEMENTARY INFORMATION:

What Is the Purpose of This Notice?

We are considering whether to add a new body system to our listings for evaluating language and speech disorders. The new listings would apply to adults and children who apply for, or receive, disability benefits under title II and Supplemental Security Income (SSI) payments based on disability under title XVI of the Act. The purpose of this notice is to give you an opportunity to send us comments about whether we should establish these new rules, and if so, suggestions about what these proposed rules should include. We are also asking for your comments and ideas about how we can improve our disability programs in the future for people with language and speech disorders.

Who Should Send Us Comments and Suggestions?

We invite comments and suggestions from anyone who has an interest in how we evaluate claims for benefits in our disability programs that are filed by people who have language and speech disorders. We are interested in comments and suggestions from people who apply for or receive benefits from us, including people who have language or speech disorders. We are also interested in comments and suggestions from members of the general public, individuals and organizations that advocate for people who have language and speech disorders, speech-language pathologists, physicians, other health care professionals, researchers, vocational specialists, people who make disability determinations for us, and any other people who may have ideas for us to consider.

Will We Respond to Your Comments From This Notice?

No, we will not respond directly to comments you send us because of this notice. However, after we consider your comments along with other information, such as that gained from relevant textbooks and our disability program experience, we will decide whether to propose new rules for evaluating language and speech disorders. If we propose new rules, we will publish them in an NPRM in the Federal Register. In accordance with the usual rulemaking procedures, you will have a chance to comment on the proposed new rules when we publish the NPRM. In the preamble to any final rules, we will summarize and respond to the significant comments made on the NPRM.

Why Are We Considering New Listings for Language and Speech Disorders?

In our current listings, language and speech disorders are addressed in six separate listings in part A, and in 12 separate listings in part B, and these listings are spread across five different body systems (Special Senses and Speech; Multiple Body Systems; Neurological; Mental Disorders; Immune System). Some of these listings have narrow applicability, while others use different terminology to describe a language or speech impairment. Therefore, we are considering whether it would be better to establish a new body system that would (1) Describe disability at the listing level for individuals who have very serious language or speech problems, (2) provide a more focused, but also more comprehensive, means of evaluating language and speech problems than in the current listings, and (3) use more consistent terms and clearer severity criteria.

What Should You Comment About?

We are interested in any comments and suggestions you have about how we should consider language and speech disorders under the listings. We are interested in knowing whether you think it is a good idea to establish a new body system in our listings for language and speech disorders and, if so, what the new listings should say. For example, do you have ideas about how we should:

• Describe listing-level severity for adults and children with particular kinds of language and speech disorders?

• Consider other impairments that commonly occur together with language and speech disorders?

• Consider impairments that result in language or speech problems?

• Consider language and speech from a developmental standpoint?

• Incorporate academic and social communication demands on children?

• Incorporate criteria relevant to our definition of disability for adults?

We are also interested in knowing what guidelines you think we should include in the introductory section of the new body system.

The listings are only a part of our rules for evaluating disability. You can also make comments or suggestions to help us improve our other rules for evaluating claims for benefits filed by adults and children who have language and speech disorders.

In addition to your comments about possible new rules for evaluating language and speech disorders, we also welcome your comments about how the disability requirements of the Act and our regulations affect people who have language and speech disorders, especially those who would like to work, either full-time or part-time with supports. Your ideas can address our existing rules and regulations, or you can suggest changes to the law. For example, we know that many people who have certain disorders might not need benefits from us if they could get treatment before their disorders make them unable to work. Others may be unable to work, but may not need to stay out of work indefinitely if they could get treatment, therapy, or other interventions. Many people with permanent disorders can work if they have a supporting safety net (including title II disability benefits and SSI payments). Work can also be therapeutic for some people. Although the Act and our regulations include some access to health care through Medicare and Medicaid, some provision for vocational rehabilitation, and a number of work incentives, these provisions are generally for people who already qualify for benefits under our disability programs. These may be issues, however, that you would like to address.

We are interested in your ideas for how we may be able to improve our programs for people with disabilities, including people who have disabilities based on language and speech disorders. If we decide to propose new rules for evaluating these disorders, we will consider your ideas as we develop the NPRM for public comment. Where applicable, we will also consider them as part of our long-term planning for the disability programs.

What Other Information Will We Consider?

We will be considering information from many sources, including the following documents, for relevance to our policy for evaluating language and speech disorders.

• American Speech-Language-Hearing Association Ad Hoc Committee on Service Delivery in the Schools. (1993). Definitions of communication disorders and variations. Asha, 35 (Suppl. 10), 40-41.

• Bleile, K.M. (2003). Manual of Articulation and Phonological Disorders: Infancy through Adulthood (2nd ed.). Clifton Park, NY: Delmar Learning.

• Curlee, R.F. (1999). Stuttering and Related Disorders of Fluency (2nd ed.). New York: Thieme New York.

• Hillis, A.E. (2002). The Handbook of Adult Language Disorders: Integrating Cognitive Neuropsychology, Neurology, and Rehabilitation. New York: Psychology Press.

• Paul, R. (2001). Language Disorders from Infancy through Adolescence: Assessment and Interventions (2nd ed.). St. Louis, MO: Mosby.

• Rubin, J.S., Sataloff, R.T., and Korovin, G.S. (2003). Diagnosis and Treatment of Voice Disorders (2nd ed.). Clifton Park, NY: Delmar Learning.

• Shipley, K.G., and McAfee, J.G. (2004). Assessment in Speech-Language Pathology: A Resource Manual (3rd ed.). Clifton Park, NY: Delmar Learning.

• Tomblin, J.B., Morris, H.L., and Spriestersbach, D.C. (Eds.) (2000). Diagnosis in Speech-Language Pathology. San Diego, CA: Singular Publishing Group, Inc.

Other Information

Who Can Get Disability Benefits?

Under title II of the Act, we provide for the payment of disability benefits if you are disabled and belong to one of the following three groups:

• Workers insured under the Act, Children of insured workers, and

• Widows, widowers, and surviving divorced spouses (see § 404.336) of insured workers.

Under title XVI of the Act, we provide for Supplemental Security Income (SSI) payments on the basis of disability if you are disabled and have limited income and resources.

How Do We Define Disability?

Under both the title II and title XVI programs, disability must be the result of any medically determinable physical or mental impairment or combination of impairments that is expected to result in death or which has lasted or is expected to last for a continuous period of at least 12 months. Our definitions of disability are shown in the following table:

If you file a claim under . . . | And you are . . . | Disability means that you have a medically determinable physical or mental impairment or combination of impairments that results in . . .
title II | an adult or a child | the inability to do any substantial gainful activity (SGA).
title XVI | a person age 18 or older | the inability to do any SGA.
title XVI | a person under age 18 | marked and severe functional limitation.

How Do We Decide Whether You Are Disabled?

If you are seeking benefits under title II of the Act, or if you are an adult seeking benefits under title XVI of the Act, we use a five-step “sequential evaluation process” to decide whether you are disabled. We describe this five-step process in our regulations at §§ 404.1520 and 416.920. We follow the five steps in order, and we stop as soon as we can make a determination or decision. The steps are:

1. Are you working, and is the work you are doing substantial gainful activity? If you are working and the work you are doing is substantial gainful activity, we will find that you are not disabled, regardless of your medical condition or your age, education, and work experience. If you are not, we will go on to step 2.

2. Do you have a “severe” impairment? If you do not have an impairment or combination of impairments that significantly limits your physical or mental ability to do basic work activities, we will find that you are not disabled. If you do, we will go on to step 3.

3. Do you have an impairment(s) that meets or medically equals the severity of an impairment in the listings? If you do, and the impairment(s) meets the duration requirement, we will find that you are disabled. If you do not, we will go on to step 4.

4. Do you have the residual functional capacity to do your past relevant work? If you do, we will find that you are not disabled. If you do not, we will go on to step 5.

5. Does your impairment(s) prevent you from doing any other work that exists in significant numbers in the national economy, considering your residual functional capacity, age, education, and work experience? If it does, and it meets the duration requirement, we will find that you are disabled. If it does not, we will find that you are not disabled.

We use a different sequential evaluation process for children who apply for payments based on disability under title XVI of the Act. We describe that sequential evaluation process in § 416.924 of our regulations.

If you are already receiving benefits, we also use a different sequential evaluation process when we decide whether your disability continues. See §§ 404.1594, 416.994, and 416.994a of our regulations. All of the sequential evaluation processes, however, include steps at which we consider whether your impairment(s) meets or medically equals one of our listings.

What Are the Listings?

The listings are examples of impairments that we consider severe enough to prevent a person from doing any gainful activity, or that result in “marked and severe functional limitations” in children seeking SSI payments under title XVI of the Act. Although we publish the listings only in appendix 1 to subpart P of part 404 of our rules, we incorporate them by reference in the SSI program in § 416.925 of our regulations, and apply them to claims under both title II and title XVI of the Act.

How Do We Use the Listings?

The listings are in two parts. There are listings for adults (part A) and for children (part B). If you are a person age 18 or over, we apply the listings in part A when we evaluate your impairment(s); we never use the listings in part B.

If you are a person under age 18, we first use the criteria in part B. If the listings in part B do not apply, and the specific disease process(es) has a similar effect on adults and children, we then use the criteria in part A. (See §§ 404.1525 and 416.925.)

If your impairment(s) does not meet any listing, we will also consider whether it medically equals any listing; that is, whether it is as medically severe. (See §§ 404.1526 and 416.926.)

What If You Do Not Have An Impairment(s) That Meets or Medically Equals a Listing?

We use the listings only to decide that people are disabled or that they are still disabled. We will never deny your claim or decide that you no longer qualify for benefits simply because your impairment(s) does not meet or medically equal any listing. If you have a severe impairment(s) that does not meet or medically equal any listing, we may still find you disabled based on other rules in the “sequential evaluation process” that we use to evaluate all disability claims. (See §§ 404.1520, 416.920, and 416.924.) Likewise, we will not decide that your disability has ended only because your impairment(s) does not meet or medically equal a listing.

List of Subjects

20 CFR Part 404

Administrative practice and procedure, Blind, Disability benefits, Old-Age, Survivors, and Disability Insurance, Reporting and recordkeeping requirements, Social Security.

20 CFR Part 416

Administrative practice and procedure, Aged, Blind, Disability benefits, Public assistance programs, Supplemental Security Income (SSI), Reporting and recordkeeping requirements.

Dated: March 21, 2005.
Jo Anne B. Barnhart,
Commissioner of Social Security.

[FR Doc. 05-7356 Filed 4-12-05; 8:45 am]

BILLING CODE 4191-02-P